DEPARTMENT OF HEALTH AND HUMAN SERVICES

Food and Drug Administration

[FDA 225-07-4300]

Memorandum of Understanding Between the United States Food and Drug Administration and the Veterans Health Administration

AGENCY: Food and Drug Administration, HHS.

ACTION: Notice.

SUMMARY: The Food and Drug Administration (FDA) is providing notice of a memorandum of understanding (MOU) between FDA and the Veterans Health Administration. The purpose of this MOU is to enhance knowledge and efficiency by providing for the sharing of information and expertise related to the review and use of FDA-regulated drugs, biologics, and medical devices between the two agencies. The goals of the collaboration are to explore ways to: Further enhance information sharing efforts through more efficient and robust interagency activities; promote efficient utilization of tools and expertise for product risk identification, validation, and analysis; and build infrastructure and processes that meet the common needs for evaluating the safety, efficacy, and utilization of drugs, biologics, and medical devices.

DATES: The agreement became effective January 23, 2007.

FOR FURTHER INFORMATION CONTACT: Jeffrey Shuren, Office of Policy (HF-11), Food and Drug Administration, 5600 Fishers Lane, Rockville, MD 20857, 301-827-3360.

SUPPLEMENTARY INFORMATION: In accordance with 21 CFR 20.108(c), which states that all written agreements and MOUs between FDA and others shall be published in the Federal Register, the agency is publishing notice of this MOU.

Dated: January 25, 2007.
Jeffrey Shuren,
Assistant Commissioner for Policy.

BILLING CODE 4160-01-S

[FR Doc. 07-421 Filed 1-30-07; 8:45 am]

BILLING CODE 4160-01-C